DEPARTMENT OF TRANSPORTATION

Surface Transportation Board

[Docket No. FD 35568]

Genesee & Wyoming Inc.—Continuance in Control Exemption-Hilton & Albany Railroad, Inc.

AGENCY: Surface Transportation Board.

ACTION: Notice of exemption.

SUMMARY: The Board is granting an exemption under 49 U.S.C. 10502 from the prior approval requirements of 49 U.S.C. 11323-25 for Genesee & Wyoming Inc. (GWI), a noncarrier, to continue in control of Hilton & Albany Railroad, Inc. (HAL), upon HAL's becoming a Class III rail carrier in a related transaction involving HAL's lease from Norfolk Southern Railway Company (NSR) and operation of a 55.5-mile rail line between Hilton and Albany, Ga.¹ GWI's continuance-in-control exemption is subject to labor protective conditions. GWI is a holding company that directly or indirectly controls one Class II rail carrier and, not including HAL, 58 Class III rail carriers. The NSR line that HAL will lease and operate connects directly with 3 rail lines controlled by GWI: Chattahoochee Bay Railroad (CHAT), Chattahoochee Industrial Railroad, and Georgia Southwestern Railroad, and indirectly with a fourth, the Bay Line Railroad (via CHAT).

¹ See Hilton & Albany R.R.—Lease & Operation Exemption—Norfolk S. Ry., FD 35567 (STB served Dec. 2, 2011).

DATES: This exemption will be effective on December 30, 2011. Petitions to stay must be filed by December 27, 2011. Petitions to reopen must be filed by December 27, 2011.

ADDRESSES: Send an original and 10 copies of all pleadings referring to Docket No. FD 35568, to: Surface Transportation Board, 395 E Street SW., Washington, DC 20423-0001. In addition, send one copy of pleadings to Eric M. Hocky, Thorp Reed & Armstrong, LLP, One Commerce Square, 2005 Market Street, Suite 1000, Philadelphia, PA 19103.

FOR FURTHER INFORMATION CONTACT: Scott M. Zimmerman, (202) 245-0386. Assistance for the hearing impaired is available through the Federal Information Relay Service (FIRS) at (800) 877-8339.

SUPPLEMENTARY INFORMATION: Additional information is contained in the Board's decision, which is available on our Web site at www.stb.dot.gov.

Decided: December 15, 2011.
By the Board, Chairman Elliott, Vice Chairman Begeman, and Commissioner Mulvey.
Jeffrey Herzig,
Clearance Clerk.

[FR Doc. 2011-32628 Filed 12-20-11; 8:45 am]

BILLING CODE 4915-01-P